DEPARTMENT OF TRANSPORTATION

Federal Aviation Administration

14 CFR Part 97

[Docket No. 30367; Amdt. No. 3057]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 16, 2003. The compliance date for each SIAP is specified in the amendatory provisions.

The incorporation by reference of certain publications listed in the regulations is approved by the Director of the Federal Register as of May 16, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unneccesary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on May 9, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 92.23, 97.25, 97.27, 97.29, 97.31, 97.33, and 97.35.

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective July 10, 2003

Carlsbad, CA, McClellan-Palomar, RNAV (GPS) RWY 24, Orig-A

Daggett, CA, Barstow-Daggett, RNAV (GPS) RWY 26, Orig-A

Los Angeles, CA, Los Angeles Intl, RNAV (GPS) RWY 7R, Orig-A

Los Angeles, CA, Los Angeles Intl, RNAV (GPS) RWY 7L, Orig-A

Oakland, CA, Metropolitan Oakland Intl, RNAV (GPS) RWY 29, Orig-A

Oakland, CA, Metropolitan Oakland Intl, RNAV (GPS) RWY 11, Orig-A

Ontario, CA, Ontario Intl, RNAV (GPS) RWY 8R, Orig-B

Ontario, CA, Ontario Intl, RNAV (GPS) RWY 8L, Orig-B

Ontario, CA, Ontario Intl, RNAV (GPS) RWY 26R, Orig-B

Ontario, CA, Ontario Intl, RNAV (GPS) RWY 26L, Orig-A

Palmdale, CA, Palmdale Production Flt/Test Instln AF Plant 42, RNAV (GPS) RWY 25, Orig-A

Ramona, CA, Ramona, RNAV (GPS) RWY 9, Orig

Ramona, CA, Ramona, (GPS) RWY 9, Orig-A, CANCELLED

San Francisco, CA, San Francisco Intl, RNAV (GPS) Z RWY 19R, Orig-A

San Francisco, CA, San Francisco Intl, RNAV (GPS) Z RWY 19L, Orig-A

San Francisco, CA, San Francisco Intl, RNAV (GPS) Z RWY 10R, Orig-A

San Francisco, CA, San Francisco Intl, RNAV (GPS) RWY 28R, Amdt 1A

San Francisco, CA, San Francisco Intl, RNAV (GPS) RWY 28L, Orig-A

San Jose, CA, Norman Y. Mineta-San Jose International, RNAV (GPS) RWY 11, Orig-A

San Jose, CA, Norman Y. Mineta-San Jose International, RNAV (GPS) RWY 29, Orig-A

San Jose, CA, Norman Y. Mineta-San Jose International, RNAV (GPS) RWY 30R, Orig-A

Fort Lauderdale, FL, Fort Lauderdale-Hollywood Intl, RNAV (GPS) RWY 9L, Orig-A

Fort Lauderdale, FL, Fort Lauderdale-Hollywood Intl, RNAV (GPS) RWY 9R, Orig-A

Fort Lauderdale, FL, Fort Lauderdale-Hollywood Intl, RNAV (GPS) RWY 13, Orig-A

Fort Lauderdale, FL, Fort Lauderdale-Hollywood Intl, RNAV (GPS) RWY 27R, Orig-A

Miami, FL, Miami Intl, RNAV (GPS) RWY 9L, Orig-B

Miami, FL, Miami Intl, RNAV (GPS) RWY 9R, Orig-B

Miami, FL, Miami Intl, RNAV (GPS) RWY 12, Orig-C

Miami, FL, Miami Intl, RNAV (GPS) RWY 27L, Orig-B

Miami, FL, Miami Intl, RNAV (GPS) RWY 27R, Orig-B

Miami, FL, Miami Intl, RNAV (GPS) RWY 30, Orig-C

Naples, FL, Naples Muni, RNAV (GPS) RWY 5, Amdt 1A

Naples, FL, Naples Muni, RNAV (GPS) RWY 23, Orig-A

Sarasota/Bradenton, FL, Sarasota/Bradenton Intl, VOR RWY 14, Amdt 16C

Sarasota/Bradenton, FL, Sarasota/Bradenton Intl, VOR RWY 22, Amdt 10D

Sarasota/Bradenton, FL, Sarasota/Bradenton Intl, VOR RWY 32, Amdt 8D

Sarasota/Bradenton, FL, Sarasota/Bradenton Intl, RNAV (GPS) RWY 32, Orig

Sarasota/Bradenton, FL, Sarasota/Bradenton Intl, RNAV (GPS) RWY 22, Orig

Sarasota/Bradenton, FL, Sarasota/Bradenton Intl, RNAV (GPS) RWY 14, Orig

Sarasota/Bradenton, FL, Sarasota/Bradenton Intl, RNAV (GPS) RWY 4, Orig

Baxley, GA, Baxley Muni, NDB RWY 8, Amdt 1

Baxley, GA, Baxley Muni, GPS RWY 8, Orig, CANCELLED

Baxley, GA, Baxley Muni, RNAV (GPS) RWY 8, Orig

Montezuma, GA, Dr. C.P. Savage Sr., NDB RWY 18, Amdt 2

Montezuma, GA, Dr. C.P. Savage Sr., RNAV (GPS) RWY 36, Orig

Montezuma, GA, Dr. C.P. Savage Sr., RNAV (GPS) RWY 18, Orig

Hilo, HI, Hilo Intl, RNAV (GPS) RWY 26, Orig-A

Kailua-Kona, HI, Kona Intl at Keahole, RNAV (GPS) RWY 17, Orig-A

Kailua-Kona, HI, Kona Intl at Keahole, RNAV (GPS) Y RWY 35, Orig-A

Kailua-Kona, HI, Kona Intl at Keahole, RNAV (GPS) Z RWY 35, Orig-A

Hazard, KY, Wendell H. Ford, VOR/DME RWY 14, Amdt 1

Hazard, KY, Wendell H. Ford, GPS RWY 14, Orig, CANCELLED

Hazard, KY, Wendell H. Ford, RNAV (GPS) RWY 14, Orig

Jackson, KY, Julian Carroll, RNAV (GPS) RWY 1, Orig

Jackson, KY, Julian Carroll, VOR/DME RWY 1, Amdt 2

Homer, LA, Homer Municipal, NDB RWY 12, Amdt 2

Homer, LA, Homer Municipal, RNAV (GPS) RWY 12, Orig

Homer, LA, Homer Municipal, RNAV (GPS) RWY 30, Orig

Homer, LA, Homer Municipal, GPS RWY 30, Orig-B, CANCELLED

Portland, ME, Portland Intl Jetport, RNAV (GPS) RWY 36, Orig-A

Presque Isle, ME, Northern Maine Regional Airport at Presque Isle, RNAV (GPS) Z RWY 1, Orig-A

Boston, MA, General Edward Lawrence Logan Intl, RNAV (GPS) RWY 4R, Orig-D

Boston, MA, General Edward Lawrence Logan Intl, RNAV (GPS) RWY 15R Orig-B

Boston, MA, General Edward Lawrence Logan Intl, RNAV (GPS) RWY 27, Orig-A

Boston, MA, General Edward Lawrence Logan Intl, RNAV (GPS) RWY 33L, Orig-A

Provincetown, MA, Provincetown Muni, RNAV (GPS) RWY 7, Orig-A

Sault Ste Marie, MI, Chippewa County Intl, RNAV (GPS) RWY 16, Orig-A

Sault Ste Marie, MI, Chippewa County Intl, RNAV (GPS) RWY 34, Orig-A

Sidney, NE, Sidney Muni, VOR/DME OR TACAN RWY 12, Amdt 4B

Sidney, NE, Sidney Muni, RNAV (GPS) RWY 12, Orig

Sidney, NE, Sidney Muni, RNAV (GPS) RWY 30, Orig

Sidney, NE, Sidney Muni, GPS RWY 30, Orig-B CANCELLED

Ely, NV, Ely Airport-Yelland Field, VOR-A, Amdt 7

Ely, NV, Ely Airport-Yelland Field, VOR/DME-C, Amdt 2

Ely, NV, Ely Airport-Yelland Field, RNAV (GPS) RWY 18, Orig

Ely, NV, Ely Airport-Yelland Field, GPS RWY 18, Orig-A, CANCELLED

Henryetta, OK, Henryetta Muni, NDB RWY 36, Amdt 3

Henryetta, OK, Henryetta Muni, RNAV (GPS) RWY 36, Orig

Henryetta, OK, Henryetta Muni, GPS RWY 36, Orig-B, CANCELLED

Oklahoma City, OK, Will Rogers World, RNAV (GPS) RWY 13, Amdt 1

Hermiston, OR, Hermiston Muni, VOR/DME-A, Amdt 3

Hermiston, OR, Hermiston Muni, RNAV (GPS)-B, Orig

San Juan, PR, Luis Munoz Marin Intl, RNAV (GPS) RWY 8, Orig-A

San Juan, PR, Luis Munoz Marin Intl, RNAV (GPS) RWY 10, Orig-B

San Juan, PR, Luis Munoz Marin Intl, RNAV (GPS) RWY 26, Orig-A

Angleton/Lake Jackson, TX, Brazoria County, RNAV (GPS) RWY 17, Amdt 1A

Angleton/Lake Jackson, TX, Brazoria County, RNAV (GPS) RWY 35, Amdt 1A

Del Rio, TX, Del Rio Intl, RNAV (GPS) RWY 13, Orig-B

Harlingen, TX, Valley Intl, RNAV (GPS) RWY 13, Orig-B

Harlingen, TX, Valley Intl, RNAV (GPS) RWY 17L, Orig-B

Harlingen, TX, Valley Intl, RNAV (GPS) RWY 1R, Orig-B

Harlingen, TX, Valley Intl, RNAV (GPS) RWY 31, Orig-A

Harlingen, TX, Valley Intl, RNAV (GPS) RWY 35L, Orig-A

San Angelo, TX, San Angelo Regional/Mathis Field, VOR RWY 21, Amdt 17

San Angelo, TX, San Angelo Regional/Mathis Field, RNAV (GPS) RWY 21, Orig

San Angelo, TX, San Angelo Regional/Mathis Field, RNAV (GPS) RWY 21, Orig, CANCELLED

San Antonio, TX, San Antonio Intl, RNAV (GPS) RWY 3, Orig-A

San Antonio, TX, San Antonio Intl, RNAV (GPS) RWY 12R, Orig-A

San Antonio, TX, San Antonio Intl, RNAV (GPS) RWY 21, Orig-A

San Antonio, TX, San Antonio Intl, RNAV (GPS) RWY 30L, Orig-A

Burlington, VT, Burlington Intl, RNAV (GPS) Z RWY 15, Orig-A

Christiansted, VI, Henry E. Rohlsen, RNAV (GPS) RWY 10, Orig-B

Moses Lake, WA, Grant County Intl, RNAV (GPS) RWY 32R, Orig-A

Spokane, WA, Spokane Intl, RNAV (GPS) RWY 3, Orig-D

Spokane, WA, Spokane Intl, RNAV (GPS) RWY 21, Orig-C

* * * Effective 15 May 2003

Somerset, KY, Somerset-Pulaski County J.T. Wilson Field, RNAV (GPS) RWY 22, Orig

[FR Doc. 03-12175 Filed 5-15-03; 8:45 am]

BILLING CODE 4910-13-M